DEPARTMENT OF VETERANS AFFAIRS

[OMB Control No. 2900—New (10-21086)]

Agency Information Collection Activities (National Survey of Women Veterans) Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before April 28, 2008.

ADDRESSES: Submit written comments on the collection of information through http://www.Regulations.gov; or to VA's OMB Desk Officer, OMB Human Resources and Housing Branch, New Executive Office Building, Room 10235, Washington, DC 20503 (202) 395-7316. Please refer to “OMB Control No. 2900-New (10-21086)” in any correspondence.

FOR FURTHER INFORMATION CONTACT: Denise McLamb, Records Management Service (005R1B), Department of Veterans Affairs, 810 Vermont Avenue, NW., Washington, DC 20420, (202) 461-7485, fax (202) 273-0443 or e-mail denise.mclamb@mail.va.gov. Please refer to “OMB Control No. 2900—New (10-21086).”

SUPPLEMENTARY INFORMATION: Title: National Survey of Women Veterans, VA Form 10-21086(NR).

OMB Control Number: 2900-New (2900-New (10-21086)).

Type of Review: Extension of a currently approved collection.

Abstract: The data collected from the survey will be used to identify the healthcare needs of women veterans, and the barriers they experience with VA healthcare use. The information will be used to improve access and the quality of healthcare for women veterans, and to evaluate the healthcare differ among women veterans of different periods of military service.

An agency may not conduct or sponsor, and a person is not required to respond to a collection of information unless it displays a currently valid OMB control number. The Federal Register Notice with a 60-day comment period soliciting comments on this collection of information was published on January 7, 2008 at pages 1265-1266.

Affected Public: Individuals or households.

Estimated Annual Burden: 2,625 hours.

Estimated Average Burden per Respondent: 45 minutes.

Frequency of Response: One time.

Estimated Number of Respondents: 3,500.

Dated: March 20, 2008.
By direction of the Secretary.
Denise McLamb,
Program Analyst, Records Management Service.

[FR Doc. E8-6358 Filed 3-27-08; 8:45 am]

BILLING CODE 8320-01-P